DEPARTMENT OF DEFENSE

Office of the Secretary

32 CFR Part 161

[Docket ID: DOD-2015-OS-0069]

RIN 0790-AJ37

Identification (ID) Cards for Members of the Uniformed Services, Their Dependents, and Other Eligible Individuals; Correction

AGENCY: Office of the Under Secretary of Defense for Personnel and Readiness (OUSD(P&R)), Department of Defense (DoD).

ACTION: Final rule; correction.

SUMMARY: The DoD is correcting a final rule that published in the Federal Register on February 14, 2024. The rule finalized eligibility requirements for ID cards issued to uniformed service members, their dependents, and other DoD individuals. These cards are used for proof of identity, DoD affiliation, and to facilitate accessing DoD benefits.

DATES: This final rule correction is effective March 15, 2024.

FOR FURTHER INFORMATION CONTACT: Robert Eves at 571-372-1956; email: robert.c.eves.civ@mail.mil.

SUPPLEMENTARY INFORMATION: Subsequent to the publication of the final rule on February 14, 2024 (89 FR 11172-11198), it was discovered that a few of the amendatory instructions included mistakes requiring correction. This document corrects those amendatory instructions.

In FR Doc. 2024-02621, appearing at 89 FR 11172-11198 in the Federal Register of Wednesday, February 14, 2024, the following corrections are made:

1. On page 11179, in the first column, correction amendatory instruction 4 to read as follows:

§ 161.5 [Amended]

4. Amend § 161.5 in paragraphs (a)(7) and (h)(8) by removing the words “FIPS Publication 201-2” and adding in their place the words “FIPS Publication 201-3”.

§ 161.23 [Corrected]

2. On page 11196, in the first column, correct amendatory instructions 21.a. and b. for § 161.23 to read as follows:

21. * * *

a. Revising tables 11, 17, 22, 23, 25, 33, 36, and 37 to subpart D of part 161;

b. In paragraph (g)(4), removing the words “USO area executives, center directors, and assistant directors” and adding in their place the words “Full-time paid personnel of the USO”; and

* * * * *

Dated: March 11, 2024.
Patricia L. Toppings,
OSD Federal Register Liaison Officer, Department of Defense.

[FR Doc. 2024-05459 Filed 3-13-24; 8:45 am]

BILLING CODE 6001-FR-P